DEPARTMENT OF EDUCATION

[Docket No. ED-2020-SCC-0088]

Agency Information Collection Activities; Comment Request; Eligibility of Students at Institutions of Higher Education for Funds Under the CARES Act

AGENCY: Office of Postsecondary Education (OPE), Department of Education (ED).

ACTION: Notice.

SUMMARY: In accordance with the Paperwork Reduction Act of 1995, ED is requesting the Office of Management and Budget (OMB) to conduct an emergency review of a new information collection.

DATES: Approval by the OMB has been requested by June 8, 2020 for this emergency information collection; however, the Department is requesting public comments on the regular information collection. Interested persons are invited to submit comments on or before August 10, 2020.

ADDRESSES: To access and review all the documents related to the information collection listed in this notice, please use http://www.regulations.gov by searching the Docket ID number ED-2020-SCC-0088. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the Director of the Strategic Collections and Clearance Governance and Strategy Division, U.S. Department of Education, 400 Maryland Ave. SW, LBJ, Room 6W-208D, Washington, DC 20202-4537.

FOR FURTHER INFORMATION CONTACT: For specific questions related to collection activities, please contact Gaby Watts, 202-453-7195.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Eligibility of Students at Institutions of Higher Education for Funds under the CARES Act.

OMB Control Number: 1840-NEW.

Type of Review: A new information collection.

Respondents/Affected Public: State, Local, and Tribal Governments; Individuals or Households; Private Sector.

Total Estimated Number of Annual Responses: 1,553,009.

Total Estimated Number of Annual Burden Hours: 2,657,060.

Abstract: The U. S. Department of Education is requesting an emergency clearance of this information collection request to allow for immediate outreach to institutions of higher eduction (IHEs) to meet the requirements of the Coronavirus Aid, Relief, and Economic Security Act or the CARES Act, Public Law 116-136 (March 27, 2020). This will help to ensure that the distribution of the CARE Act funds is managed by IHEs in accordance with this clarification as discussed in the Interim Final Rule scheduled to be published in the Federal Register on or about June 9, 2020. The Department is requesting emergency clearance and OMB approval of our foregoing public comment until this collection is resubmitted as a regular collection not later than June 30, 2020. The Department will publish 60 and 30 Federal Register notices as required by 5 CFR 1320.8(d), soliciting comments on the information collection at that time.

Additional Information: An emergency clearance approval for the use of the system is described below due to the following conditions:

Section 18004 of the Act authorizes the Secretary of Education (“Secretary”) to allocate formula grant funds to participating institutions of higher educations (IHEs). It requires the IHEs to use no less than fifty percent of the funds received to provide emergency financial aid grants to students for expenses related to the disruption of campus operations due to coronavirus (including eligible expenses under a student's cost of attendance such as food, housing, course materials, technology, health care, and child care). ED is requesting an emergency clearance so that IHEs may appropriately determine which individuals attending their institution are eligible to receive emergency financial aid grants under the CARES Act.

Dated: June 4, 2020.
Kate Mullan,
PRA Coordinator, Strategic Collections and Clearance Governance and Strategy Division, Office of Chief Data Officer.

[FR Doc. 2020-12491 Filed 6-8-20; 8:45 am]

BILLING CODE 4000-01-P